DEPARTMENT OF JUSTICE

Antitrust Division

Notice Pursuant to the National Cooperative Research and Production Act of 1993—National Storage Industry Consortium

Notice is hereby given that, on May 3, 2002, pursuant to section 6(a) of the National Cooperative Research and Production Act of 1993, 15 U.S.C. 4301 et seq. (“the Act”), National Storage Industry Consortium (“NSIC”) has filed written notifications simultaneously with the Attorney General and the Federal Trade Commission disclosing changes in its membership status. The notifications were filed for the purpose of extending the Act's provisions limiting the recovery of antitrust plaintiffs to actual damages under specified circumstances. Specifically, Agere Systems, Allentown, PA; Euxine Technologies, Broomfield, CO; Maxtor, Milpitas, CA; and MEMS Optical, Huntsvilles, AL have been added as parties to this venture. The following colleges and universities have joined NSIC as university associate members: Arizona State University, Tempe, AZ; Georgia Institute of Technology, Atlanta, GA; Johns Hopkins university, Baltimore, MD; Northeastern University, Boston, MA; Purdue University, West Lafayette, IN; and University of Missouri, Columbia, MO.

No other changes have been made in either the membership or planned activity of the group research project. Membership in this group research project remains open, and NSIC intends to file additional written notifications disclosing all changes in membership.

On June 12, 1991, NSIC filed its original notification pursuant to Section 6(a) of the Act. The Department of Justice published a notice in the Federal Register pursuant to section 6(b) of the Act on August 13, 1991 (56 FR 38465).

The last notification was filed with the Department on October 18, 1999. A notice was published in the Federal Register pursuant to section 6(b) of the Act on June 26, 2000 (65 FR 39429).

Constance K. Robinson,
Director of Operations, Antitrust Division.

[FR Doc. 02-15729 Filed 6-20-02; 8:45 am]

BILLING CODE 4410-11-M